DEPARTMENT OF AGRICULTURE

Agricultural Marketing Service

[Docket No. ST-00-10]

Plant Variety Protection Board; Notice of Teleconference

AGENCY: Agricultural Marketing Service, USDA.

ACTION: Notice of teleconference meeting.

SUMMARY: This notice sets forth the schedule and proposed agenda of a forthcoming teleconference meeting of the Plant Variety Protection Board. Notice of this meeting is required under section 10(a)(2) of the Federal Advisory Committee Act. This document is intended to notify the general public of their opportunity to attend the meeting.

DATES: September 14, 2000.

Time: 12:00 noon, EDT.

Location: USDA's Agricultural Marketing Service Conference Room, Room 3501, South Building, 1400 Independence Avenue, SW, Washington, D.C.

FOR FURTHER INFORMATION CONTACT: Ann Marie Thro, Commissioner, Plant Variety Protection Office (PVPO), Science & Technology, AMS, USDA. Address: Room 500, National Agricultural Library Building, 10301 Baltimore Blvd., Beltsville, MD 20705-2351, (301) 504-5518 or -7475, or fax: (301) 504-5291.

SUPPLEMENTARY INFORMATION: The Plant Variety Protection Board is authorized under section 7 of the Plant Variety Protection Act (7 U. S. C. 2327). The Board advises the Secretary of Agriculture on rules and regulations implementing the Act. On September 14, 2000, the Board will conduct a teleconference to discuss improving the Plant Variety Protection Office Application Process and other related topics.

The tentative agenda for the teleconference meeting includes: (1) Welcome and opening remarks; (2) Action on general recommendations from Board minutes of March 23, 2000 meeting; (3) Establishment of a subcommittee to address specific recommendations to study and enhance efficiency and cost-effectiveness of PVPO procedures; and (4) Adjournment.

The public may attend the teleconference at the following address: USDA's Agricultural Marketing Service Conference Room, Room 3501, South Building, 1400 Independence Avenue, SW, Washington D.C. Persons who wish to attend should contact the PVPO at 301-504-5518. Minutes of the teleconference will be available for public review 30 days following the meeting at the PVPO, Room 500, National Agricultural Library Building, 10301 Baltimore Blvd., Beltsville, MD 20705-2351, between 9 a.m. and 4 p.m., Monday through Friday, except Federal holidays. The minutes will also be posted on the Internet web site http://www.ams.usda.gov/science/pvp.htm.

Dated: August 29, 2000.
Michael D. Fernandez,
Associate Administrator, Agricultural Marketing Service.

[FR Doc. 00-22578 Filed 9-1-00; 8:45 am]

BILLING CODE 3410-02-P